DEPARTMENT OF COMMERCE

National Oceanic and Atmospheric Administration

50 CFR Part 679

[Docket No. 061130320-6320-01 ; I.D. 112206B]

Fisheries of the Exclusive Economic Zone Off Alaska; Gulf of Alaska; Proposed 2007 and 2008 Harvest Specifications for Groundfish

AGENCY: National Marine Fisheries Service (NMFS), National Oceanic and Atmospheric Administration (NOAA), Commerce.

ACTION: Proposed rule; request for comments.

SUMMARY: NMFS proposes 2007 and 2008 harvest specifications, reserves and apportionments, and Pacific halibut prohibited species catch (PSC) limits for the groundfish fishery of the Gulf of Alaska (GOA). This action is necessary to establish harvest limits for groundfish during the 2007 and 2008 fishing years and to accomplish the goals and objectives of the Fishery Management Plan for Groundfish of the Gulf of Alaska (FMP). The intended effect of this action is to conserve and manage the groundfish resources in the GOA in accordance with the Magnuson-Stevens Fishery Conservation and Management Act (Magnuson-Stevens Act).

DATES: Comments must be received by January 16, 2007.

ADDRESSES: Send comments to Sue Salveson, Assistant Regional Administrator, Sustainable Fisheries Division, Alaska Region, NMFS, Attn: Ellen Walsh, Records Officer. Comments may be submitted by:

• Mail to P.O. Box 21668, Juneau, AK 99802;

• Hand delivery to the Federal Building, 709 West 9th Street, Room 420A, Juneau, AK;

• E-mail to 2007tacspecs@noaa.gov and include in the subject line the document identifier: “2007 Proposed Specifications” (E-mail comments, with or without attachments, are limited to 5 megabytes);

• Fax to 907-586-7557; or

• Webform at the Federal eRulemaking Portal: http://www.regulations.gov. Follow the instructions at that site for submitting comments.

Copies of the Draft Environmental Impact Statement (DEIS) and the Initial Regulatory Flexibility Analysis (IRFA) prepared for this action are available from NMFS at the addresses above or from the Alaska Region website at http://www.fakr.noaa.gov. Copies of the final 2005 Stock Assessment and Fishery Evaluation (SAFE) report for the groundfish resources of the GOA, dated November 2005, and the October 2006 North Pacific Fishery Management Council (Council) meeting minutes are available from the Council at West 4th Avenue, Suite 306, Anchorage, AK 99510 or from its website at http://www.fakr.noaa.gov/npfmc.

FOR FURTHER INFORMATION CONTACT: Tom Pearson, Sustainable Fisheries Division, Alaska Region, 907-481-1780, or e-mail at tom.pearson@noaa.gov.

SUPPLEMENTARY INFORMATION: NMFS manages the GOA groundfish fisheries in the exclusive economic zone (EEZ) of the GOA under the FMP. The Council prepared the FMP under the authority of the Magnuson-Stevens Act, 16 U.S.C. 1801, et seq. Regulations governing U.S. fisheries and implementing the FMP appear at 50 CFR parts 600, 679, and 680.

These proposed specifications are based in large part on the 2005 SAFE reports. In November 2006, the 2006 SAFE reports will be used to develop the 2007 and 2008 final acceptable biological catch (ABC) amounts. Anticipated changes in the final specifications from the proposed specifications are identified in this notice for public review.

The FMP and its implementing regulations require NMFS, after consultation with the Council, to specify the total allowable catch (TAC) for each target species and for the “other species” category, the sum of which must be within the optimum yield (OY) range of 116,000 to 800,000 metric tons (mt). Section 679.20(c)(1) further requires NMFS to publish and solicit public comment on proposed annual TACs, halibut PSC amounts, and seasonal allowances of pollock and inshore/offshore Pacific cod. The proposed specifications in Tables 1 through 20 of this document satisfy these requirements. For 2007, the sum of the proposed TAC amounts is 264,367 mt. For 2008, the sum of the proposed TAC amounts is 251,092 mt. Under § 679.20(c)(3), NMFS will publish the 2007 and 2008 final specifications after (1) considering comments received within the comment period (see DATES), (2) consulting with the Council at its December 2006 meeting, and (3) considering new information presented in the DEIS and the final 2006 SAFE report prepared for the 2007 and 2008 fisheries.

Other Rules Affecting the 2007 and 2008 Harvest Specifications

Congress granted NMFS specific statutory authority to manage Central GOA rockfish fisheries in Section 802 of the Consolidated Appropriations Act of 2004 (Public Law 108-199; Section 802). The Council adopted a proposed Central Gulf of Alaska Rockfish Pilot Program (Rockfish Program) to meet the requirements of Section 802 on June 6, 2005. The elements of the Rockfish Program are discussed in detail in the proposed and final rules to Amendment 68 to the FMP (71 FR 33040, June 7, 2006 and 71 FR 67210, November 20, 2006, respectively). The final rule is effective December 20, 2006. The Rockfish Program is authorized for two years, from January 1, 2007, until December 31, 2008. A brief overview of major provisions of the Rockfish Program that have implications for the 2007 and 2008 harvest specifications follow.

The Rockfish Program allocates exclusive harvesting and processing privileges for primary rockfish species and for associated species harvested incidentally to those rockfish in the Central GOA-an area from 147° W. longitude to 159° W. longitude. The primary rockfish species are northern rockfish, Pacific ocean perch, and pelagic shelf rockfish. Secondary species are those species incidentally harvested during the harvest of the primary rockfish species fisheries and include Pacific cod, rougheye rockfish, shortraker rockfish, sablefish, and thornyhead rockfish. The Rockfish Program also allocates a portion of the total GOA halibut mortality limit annually specified under § 679.21 to participants based on historic halibut mortality rates in the primary rockfish species fisheries. The amounts of primary rockfish species, secondary species, and halibut mortality to be allocated to the Rockfish Program will not be known until eligible participants apply for participation in the Program. These amounts will be posted on the Alaska Region website at http://www.fakr.noaa.gov when they become available early in 2007.

The Rockfish Program also establishes catch limits, commonly called “sideboards,” to limit the ability of participants eligible for this Program to harvest fish in fisheries other than the Central GOA rockfish fisheries. Sideboards limit the total amount of catch in other groundfish fisheries that can be taken by eligible harvesters to historic levels, including harvests made in the State of Alaska (State) parallel groundfish fisheries. These are fisheries authorized by the State in its waters concurrent with the Federal fishery for which harvest amounts are deducted from the Federal TAC. Sideboards limit harvest in specific rockfish fisheries and the amount of halibut bycatch that can be used in certain flatfish fisheries. Tables 18 and 19 list the proposed 2007 and 2008 groundfish sideboard limits. Table 20 lists the proposed 2007 and 2008 halibut mortality limits.

Proposed ABC and TAC Specifications

The proposed ABCs and TACs are based on the best available biological and socioeconomic information, including projected biomass trends, information on assumed distribution of stock biomass, and revised methods used to calculate stock biomass. The FMP specifies the formulas, or tiers, to be used to compute ABCs and overfishing levels (OFLs). The formulas applicable to a particular stock or stock complex are determined by the level of reliable information available to fisheries scientists. This information is categorized into a successive series of six tiers with tier one representing the most reliable level of information and tier six the least reliable level of information.

In October 2006, the Council, its Scientific and Statistical Committee (SSC), and its Advisory Panel (AP), reviewed current biological and harvest information about the condition of groundfish stocks in the GOA. Most of the information available to the SSC, AP, and Council was initially compiled by the Council's GOA Groundfish Plan Team and was presented in the final 2005 SAFE report for the GOA groundfish fisheries, dated November 2005 (see ADDRESSES). The SAFE report contains a review of the latest scientific analyses, estimates of each species' biomass and other biological parameters, as well as summaries of the available information on the GOA ecosystem and the economic condition of the groundfish fisheries off Alaska. From these data and analyses, the Plan Team estimates an ABC for each species category. The 2005 SAFE report will be updated to include new information collected during 2006. The Plan Team will provide revised stock assessments in November 2006 in the final 2006 SAFE report. The Council will review the 2006 SAFE report in December 2006. The final 2007 and 2008 harvest specifications may be adjusted from the proposed harvest specifications based on the 2006 SAFE report.

The SSC adopted the OFL and ABC recommendations from the Plan Team for all groundfish species. Based on the recommendations from the SSC for OFLs and ABCs and the AP recommendations for TAC amounts, the Council recommended amending the 2007 OFL, ABC, and TAC amounts for pollock, Pacific cod, sablefish, rex sole, flathead sole, arrowtooth flounder, northern rockfish, Pacific ocean perch, rougheye rockfish, pelagic shelf rockfish, and “other species” as published in the 2006 and 2007 final harvest specifications for groundfish in the GOA on March 3, 2006 (71 FR 10870). These amended amounts were recommended by the Council based on new information developed in 2006. For tier 1-3 stocks listed above, the GOA Groundfish Plan Team recommended projected groundfish OFLs and ABCs for 2007 and 2008 at its September 2006 meeting. The projections for tier 1-3 stocks used species-specific Alaska Fisheries Science Center population models, which include information on age structure, growth and reproduction, and natural and fishing mortality. The Council recommended that proposed OFL and ABC levels for those stocks in tiers 4-6, for which projections cannot be made, remain unchanged from 2006 levels for 2007 and 2008.

For 2007 and 2008, the Council recommends and NMFS proposes the OFLs and ABCs listed in Tables 1 and 2. The ABCs reflect harvest amounts that are less than the specified overfishing amounts. The sum of the proposed 2007 ABCs for all assessed groundfish is 482,764 mt, which is lower than the final 2006 ABC total of 500,626 mt but higher than the final 2007 ABC total of 472,260 mt (71 FR 10870, March 3, 2006). The sum of the proposed 2008 ABCs for all assessed groundfish is 469,755 mt, which is lower than the final 2006 ABC total of 500,626 mt and the final 2007 ABC total of 472,260 mt.

Specification and Apportionment of TAC Amounts

The Council recommended proposed TACs for 2007 and 2008 that are equal to proposed ABCs for pollock, deep-water flatfish, rex sole, sablefish, Pacific ocean perch, shortraker rockfish, rougheye rockfish, northern rockfish, pelagic shelf rockfish, thornyhead rockfish, demersal shelf rockfish, and skates. The Council recommended TACs that are less than the ABCs for Pacific cod, flathead sole, shallow-water flatfish, arrowtooth flounder, other rockfish, and Atka mackerel.

The apportionment of annual pollock TAC among the Western and Central Regulatory Areas of the GOA reflects the seasonal biomass distribution and is discussed in greater detail below. The annual pollock TAC in the Western and Central Regulatory Areas of the GOA is apportioned among Statistical Areas 610, 620, and 630, as well as equally among each of the following four seasons: the A season (January 20 through March 10), the B season (March 10 through May 31), the C season (August 25 through October 1), and the D season (October 1 through November 1)(§§ 679.23(d)(2)(i) through (iv) and 679.20(a)(5)(iii)(B)).

As in 2006, the SSC and Council recommended that the method of apportioning the sablefish ABC among management areas in 2007 and 2008 include commercial fishery and survey data. NMFS stock assessment scientists believe that unbiased commercial fishery catch-per-unit effort data are useful for stock distribution assessments. The use of commercial fishery data is evaluated annually to assure that unbiased information is included in stock distribution models. The Council's recommendation for sablefish area apportionments also takes into account the prohibition on the use of trawl gear in the Southeast Outside (SEO) District of the Eastern Regulatory Area and makes available 5 percent of the combined Eastern Regulatory Area TACs to trawl gear for use as incidental catch in other directed groundfish fisheries in the West Yakutat District (WYK)(§ 679.20(a)(4)(i)).

The AP, SSC, and Council recommended that the ABC for Pacific cod in the GOA be apportioned among regulatory areas based on the three most recent NMFS summer trawl surveys. As in previous years, the Plan Team, SSC, and Council recommended that the sum of all State and Federal water Pacific cod removals from the GOA not exceed ABC recommendations. The 2007 and 2008 Pacific cod TACs are affected by the State's fishery for Pacific cod in its waters in the Western and Central Regulatory Areas, as well as in Prince William Sound (PWS). Accordingly, the Council recommended the 2007 and 2008 proposed Pacific cod TACs be reduced from ABC amounts to account for guideline harvest levels (GHL) established for Pacific cod by the State for fisheries that occur in State waters of the GOA. Therefore, the 2007 proposed Pacific cod TACs are less than the proposed ABCs by the following amounts: (1) Eastern GOA, 353 mt; (2) Central GOA, 8,099 mt; and (3) Western GOA, 5,743 mt. Similarly, the 2008 proposed Pacific cod TACs are less than the proposed ABCs by the following amounts: (1) Eastern GOA, 241 mt; (2) Central GOA, 5,514 mt; and (3) Western GOA; 3,910 mt. These amounts reflect the sum of the State's 2007 and 2008 GHLs in these areas, which are 10 percent, 25 percent, and 25 percent of the Eastern, Central, and Western GOA ABCs, respectively.

NMFS also is proposing seasonal apportionments of the annual Pacific cod TACs in the Western and Central Regulatory Areas. Sixty percent of the annual TAC is apportioned to the A season for hook-and-line, pot, or jig gear from January 1 through June 10, and for trawl gear from January 20 through June 10. Forty percent of the annual TAC is apportioned to the B season for hook-and-line, pot, or jig gear from September 1 through December 31 and for trawl gear from September 1 through November 1 (§§ 679.23(d)(3) and 679.20(a)(11)).

As in 2006, NMFS proposes to establish for 2007 and 2008 an A season directed fishing allowance (DFA) for the Pacific cod fisheries in the GOA based on the management area TACs minus the recent average A season incidental catch of Pacific cod in each management area before June 10 (§ 679.20(d)(1)). The DFA and incidental catch before June 10 will be managed such that total catch in the A season will be no more than 60 percent of the annual TAC. Incidental catch taken after June 10 will continue to be taken from the B season TAC. This action meets the intent of the Steller Sea Lion Protection Measures by achieving temporal dispersion of the Pacific cod removals and reducing the likelihood of catch exceeding 60 percent of the annual TAC in the A season (January 1 through June 10).

The FMP specifies that the amount for the “other species” category be set at an amount less than or equal to 5 percent of the combined TAC amounts for target species. The proposed 2007 and 2008 “other species” TACs of 4,500 mt are less than 5 percent of the combined TAC amounts for target species. The sum of the proposed TACs for all GOA groundfish is 264,367 mt for 2007 and 251,092 mt for 2008, which is within the OY range specified by the FMP. The sums of the proposed 2007 and 2008 TACs are both lower than the sum of the 2006 TACs of 291,950 mt.

NMFS finds that the Council's recommendations for proposed OFL, ABC, and TAC amounts are consistent with the biological condition of groundfish stocks as adjusted for other biological and socioeconomic considerations, including maintaining the total TAC within the required OY range. Tables 1 and 2 list the proposed 2007 and 2008 ABCs, TACs, and OFLs.

Table 1 - Proposed 2007 ABCs, TACs, and OFLs of Groundfish for the Western/Central/West Yakutat (W/C/WYK), Western (W), Central (C), Eastern (E) Regulatory Areas, and in the West Yakutat (WYK), Southeast Outside (SEO), and Gulfwide (GW) Districts of the Gulf of Alaska (values are rounded to the nearest metric ton)
Total | Species | Area¹ | ABC | TAC | OFL
| Pollock² | Shumagin (610) | 23,363 | 23,363 | n/a
|  | Chirikof (620) | 24,635 | 24,635 | n/a
|  | Kodiak (630) | 14,905 | 14,905 | n/a
|  | WYK (640) | 1,447 | 1,447 | n/a
Subtotal |  | W/C/WYK | 64,350 | 64,350 | 90,200
|  | SEO (650) | 6,157 | 6,157 | 8,209
Total |  |  | 70,507 | 70,507 | 98,409
| Pacific cod³ | W | 22,971 | 17,228 | n/a
|  | C | 32,395 | 24,296 | n/a
|  | E | 3,534 | 3,181 | n/a
Total |  |  | 58,900 | 44,705 | 70,100
| Flatfish ⁴(deep-water) | W | 421 | 421 | n/a
|  | C | 4,145 | 4,145 | n/a
|  | WYK | 2,665 | 2,665 | n/a
|  | SEO | 1,446 | 1,446 | n/a
Total |  |  | 8,677 | 8,677 | 11,008
| Rex sole | W | 1,096 | 1,096 | n/a
|  | C | 5,207 | 5,207 | n/a
|  | WYK | 992 | 992 | n/a
|  | SEO | 1,405 | 1,405 | n/a
Total |  |  | 8,700 | 8,700 | 11,400
| Flathead sole | W | 10,905 | 2,000 | n/a
|  | C | 26,047 | 5,000 | n/a
|  | WYK | 2,091 | 2,091 | n/a
|  | SEO | 57 | 57 | n/a
Total |  |  | 39,100 | 9,148 | 48,600
| Flatfish⁵ (shallow-water) | W | 24,720 | 4,500 | n/a
|  | C | 24,258 | 13,000 | n/a
|  | WYK | 628 | 628 | n/a
|  | SEO | 1,844 | 1,844 | n/a
Total |  |  | 51,450 | 19,972 | 62,418
| Arrowtooth flounder | W | 20,897 | 8,000 | n/a
|  | C | 139,881 | 30,000 | n/a
|  | WYK | 16,541 | 2,500 | n/a
|  | SEO | 7,081 | 2,500 | n/a
Total |  |  | 184,400 | 43,000 | 215,300
| Sablefish⁶ | W | 2,464 | 2,464 | n/a
|  | C | 5,879 | 5,879 | n/a
|  | WYK | 2,103 | 2,103 | n/a
|  | SEO | 3,254 | 3,254 | n/a
Subtotal of SERO and WYK |  | E | 5,357 | 5,357 | n/a
Total |  |  | 13,700 | 13,700 | 16,500
| Pacific ocean perch⁷ | W | 4,282 | 4,282 | 5,069
|  | C | 7,646 | 7,646 | 9,052
|  | WYK | 1,135 | 1,135 | n/a
|  | SEO | 1,636 | 1,636 | n/a
Subtotal |  | E | n/a | n/a | 3,279
Total |  |  | 14,699 | 14,699 | 17,400
| Shortraker rockfish⁸ | W | 153 | 153 | n/a
|  | C | 353 | 353 | n/a
|  | E | 337 | 337 | n/a
Total |  |  | 843 | 843 | 1,124
| Rougheye rockfish⁹ | W | 124 | 124 | n/a
|  | C | 557 | 557 | n/a
|  | E | 219 | 219 | n/a
Total |  |  | 900 | 900 | 1,100
| Other rockfish¹⁰,¹¹ | W | 577 | 577 | n/a
|  | C | 386 | 386 | n/a
|  | WYK | 317 | 317 | n/a
|  | SEO | 2,872 | 200 | n/a
Total |  |  | 4,152 | 1,480 | 5,394
| Northern rockfish¹¹,¹² | W | 1,719 | 1,719 | n/a
|  | C | 4,181 | 4,181 | n/a
|  | E | 0 | 0 | n/a
Total |  |  | 5,900 | 5,900 | 7,000
| Pelagic shelf rockfish¹³ | W | 1,452 | 1,452 | n/a
|  | C | 3,270 | 3,270 | n/a
|  | WYK | 302 | 302 | n/a
|  | SEO | 437 | 437 | n/a
Total |  |  | 5,461 | 5,461 | 7,108
| Thornyhead rockfish | W | 513 | 513 | n/a
|  | C | 989 | 989 | n/a
|  | E | 707 | 707 | n/a
Total |  |  | 2,209 | 2,209 | 2,945
| Big skates¹⁴ | W | 695 | 695 | n/a
|  | C | 2,250 | 2,250 | n/a
|  | E | 599 | 599 | n/a
Total |  |  | 3,544 | 3,544 | 4,726
| Longnose skates¹⁵ | W | 65 | 65 | n/a
|  | C | 1,969 | 1,969 | n/a
|  | E | 861 | 861 | n/a
Total |  |  | 2,895 | 2,895 | 3,860
| Other skates¹⁶ | GW | 1,617 | 1,617 | 2,156
| Demersal shelf rockfish¹⁷ | SEO | 410 | 410 | 650
| Atka mackerel | GW | 4,700 | 1,500 | 6,200
| Other species¹⁸ | GW | n/a | 4,500 | n/a
Total¹⁹ |  |  | 482,764 | 264,367 | 593,398
1. Regulatory areas and districts are defined at § 679.2.
2. Pollock is apportioned in the Western/Central Regulatory Areas among three statistical areas. During the A season, the apportionment is based on an adjusted estimate of the relative distribution of pollock biomass of approximately 22%, 57%, and 21% in Statistical Areas 610, 620, and 630, respectively. During the B season, the apportionment is based on the relative distribution of pollock biomass at 22%, 69%, and 9% in Statistical Areas 610, 620, and 630, respectively. During the C and D seasons, the apportionment is based on the relative distribution of pollock biomass at 53%, 15%, and 32% in Statistical Areas 610, 620, and 630, respectively. Tables 5 and 6 list the 2007and 2008 proposed seasonal apportionments. In the West Yakutat and Southeast Outside Districts of the Eastern Regulatory Area, pollock is not divided into seasonal allowances.
3. The annual Pacific cod TAC is apportioned 60% to an A season and 40% to a B season in the Western and Central Regulatory Areas of the GOA. Pacific cod is allocated 90% for processing by the inshore component and 10% for processing by the offshore component. Tables 7 and 8 list the 2007 and 2008 proposed seasonal apportionments and component allocations of TAC.
⁴. “Deep-water flatfish” means Dover sole, Greenland turbot, and deepsea sole.
5. “Shallow-water flatfish” means flatfish not including “deep-water flatfish,” flathead sole, rex sole, or arrowtooth flounder.
6. Sablefish is allocated to trawl and hook-and-line gears for 2007 and to trawl gear in 2008. Tables 3 and 4 list these amounts.
7. “Pacific ocean perch” means Sebastes alutus.
8. “Shortraker rockfish” means Sebastes borealis.
9. “Rougheye rockfish” means Sebastes aleutianus.
10. “Other rockfish” in the Western and Central Regulatory Areas and in the West Yakutat District means slope rockfish and demersal shelf rockfish. The category “other rockfish” in the SEO District means slope rockfish.
11. “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern GOA only, slope rockfish also includes northern rockfish, S. polyspinous.
12. “Northern rockfish” means Sebastes polyspinis.
¹³. “Pelagic shelf rockfish” means Sebastes ciliatus (dark), S. variabilis (dusky), S. entomelas (widow), and S. flavidus (yellowtail).
14. Big skate means Raja binoculata.
15. Longnose skate means Raja rhina.
16. Other skates means Bathyraja spp.
17. “Demersal shelf rockfish” means Sebastes pinniger (canary), S. nebulosus (china), S. caurinus (copper), S. maliger (quillback), S. helvomaculatus (rosethorn), S. nigrocinctus (tiger), and S. ruberrimus (yelloweye).
18. “Other species” means sculpins, sharks, squid, and octopus. There is no OFL or ABC for “other species.” The FMP specifies that the amount for the “other species” category be set at an amount less than or equal to 5% of the combined TAC amounts for target species.
19. The total ABC and OFL is the sum of the ABCs and OFLs for assessed target species.

Table 2 Proposed 2008 ABCs, TACs, and OFLs of Groundfish for the Western/Central/West Yakutat (W/C/WYK), Western (W), Central (C), Eastern (E) Regulatory Areas, and in the West Yakutat (WYK), Southeast Outside (SEO), and Gulfwide (GW) Districts of the Gulf of Alaska
(values are rounded to the nearest metric ton)
Total | Species | Area¹ | ABC | TAC | OFL
| Pollock² | Shumagin (610) | 23,908 | 23,908 | n/a
|  | Chirikof (620) | 25,209 | 25,209 | n/a
|  | Kodiak (630) | 15,252 | 15,252 | n/a
|  | WYK (640) | 1,481 | 1,481 | n/a
Subtotal |  | W/C/WYK | 65,850 | 65,850 | 92,700
|  | SEO (650) | 6,157 | 6,157 | 8,209
Total |  |  | 72,007 | 72,007 | 100,909
| Pacific cod³ | W | 15,639 | 11,729 | n/a
|  | C | 22,055 | 16,541 | n/a
|  | E | 2,406 | 2,165 | n/a
Total |  |  | 40,100 | 30,435 | 48,300
| Flatfish⁴ (deep-water) | W | 421 | 421 | n/a
|  | C | 4,145 | 4,145 | n/a
|  | WYK | 2,665 | 2,665 | n/a
|  | SEO | 1,446 | 1,446 | n/a
Total |  |  | 8,677 | 8,677 | 11,008
| Rex sole | W | 1,084 | 1,084 | n/a
|  | C | 5,147 | 5,147 | n/a
|  | WYK | 980 | 980 | n/a
|  | SEO | 1,389 | 1,389 | n/a
Total |  |  | 8,600 | 8,600 | 11,200
| Flathead sole | W | 11,435 | 2,000 | n/a
|  | C | 27,313 | 5,000 | n/a
|  | WYK | 2,192 | 2,192 | n/a
|  | SEO | 60 | 60 | n/a
Total |  |  | 41,000 | 9,242 | 51,110
| Flatfish⁵(shallow-water) | W | 24,720 | 4,500 | n/a
|  | C | 24,258 | 13,000 | n/a
|  | WYK | 628 | 628 | n/a
|  | SEO | 1,844 | 1,844 | n/a
Total |  |  | 51,450 | 19,972 | 62,418
| Arrowtooth flounder | W | 21,237 | 8,000 | n/a
|  | C | 142,155 | 30,000 | n/a
|  | WYK | 16,811 | 2,500 | n/a
|  | SEO | 7,197 | 2,500 | n/a
Total |  |  | 187,400 | 43,000 | 218,800
| Sablefish⁶ | W | 2,213 | 2,213 | n/a
|  | C | 5,278 | 5,278 | n/a
|  | WYK | 1,888 | 1,888 | n/a
|  | SEO | 2,921 | 2,921 | n/a
Subtotal |  | E | 4,809 | 4,809 | n/a
Total |  |  | 12,300 | 12,300 | 14,800
| Pacific ocean perch⁷ | W | 4,341 | 4,341 | 5,156
|  | C | 7,751 | 7,751 | 9,208
|  | WYK | 1,150 | 1,150 | n/a
|  | SEO | 1,658 | 1,658 | n/a
Subtotal |  | E | n/a | n/a | 3,336
Total |  |  | 14,900 | 14,900 | 17,700
| Shortraker rockfish⁸ | W | 153 | 153 | n/a
|  | C | 353 | 353 | n/a
|  | E | 337 | 337 | n/a
Total |  |  | 843 | 843 | 1,124
| Rougheye rockfish⁹ | W | 124 | 124 | n/a
|  | C | 557 | 557 | n/a
|  | E | 219 | 219 | n/a
Total |  |  | 900 | 900 | 1,100
| Other rockfish¹⁰,¹¹ | W | 577 | 577 | n/a
|  | C | 386 | 386 | n/a
|  | WYK | 317 | 317 | n/a
|  | SEO | 2,872 | 200 | n/a
Total |  |  | 4,152 | 1,480 | 5,394
| Northern rockfish¹¹,¹² | W | 1,690 | 1,690 | n/a
|  | C | 4,110 | 4,110 | n/a
|  | E | 0 | 0 | n/a
Total |  |  | 5,800 | 5,800 | 7,000
| Pelagic shelf rockfish¹³ | W | 1,653 | 1,653 | n/a
|  | C | 3,751 | 3,751 | n/a
|  | WYK | 346 | 346 | n/a
|  | SEO | 501 | 501 | n/a
Total |  |  | 6,251 | 6,251 | 8,554
| Thornyhead rockfish | W | 513 | 513 | n/a
|  | C | 989 | 989 | n/a
|  | E | 707 | 707 | n/a
Total |  |  | 2,209 | 2,209 | 2,945
| Big skates¹⁴ | W | 695 | 695 | n/a
|  | C | 2,250 | 2,250 | n/a
|  | E | 599 | 599 | n/a
Total |  |  | 3,544 | 3,544 | 4,726
| Longnose skates¹⁵ | W | 65 | 65 | n/a
|  | C | 1,969 | 1,969 | n/a
|  | E | 861 | 861 | n/a
Total |  |  | 2,895 | 2,895 | 3,860
| Other skates¹⁶ | GW | 1,617 | 1,617 | 2,156
| Demersal shelf rockfish¹⁷ | SEO | 410 | 410 | 650
| Atka mackerel | GW | 4,700 | 1,500 | 6,200
| Other species¹⁸ | GW | n/a | 4,500 | n/a
TOTAL¹⁹ |  |  | 469,755 | 251,092 | 579,954
¹. Regulatory areas and districts are defined at § 679.2.
². Pollock is apportioned in the Western/Central Regulatory Areas among three statistical areas. During the A season, the apportionment is based on an adjusted estimate of the relative distribution of pollock biomass of approximately 22%, 57%, and 21% in Statistical Areas 610, 620, and 630, respectively. During the B season, the apportionment is based on the relative distribution of pollock biomass at 22%, 69%, and 9% in Statistical Areas 610, 620, and 630, respectively. During the C and D seasons, the apportionment is based on the relative distribution of pollock biomass at 53%, 15%, and 32% in Statistical Areas 610, 620, and 630, respectively. Tables 5 and 6 list the proposed 2007 and 2008 seasonal apportionments. In the West Yakutat and Southeast Outside Districts of the Eastern Regulatory Area, pollock is not divided into seasonal allowances.
³. The annual Pacific cod TAC is apportioned 60% to an A season and 40% to a B season in the Western and Central Regulatory Areas of the GOA. Pacific cod is allocated 90% for processing by the inshore component and 10% for processing by the offshore component. Tables 7 and 8 list the 2007 and 2008 proposed seasonal apportionments and component allocations of TAC.
⁴. ″Deep-water flatfish″ means Dover sole, Greenland turbot, and deepsea sole.
⁵. ″Shallow-water flatfish″ means flatfish not including ″deep-water flatfish,″ flathead or arrowtooth flounder.
⁶. Sablefish is allocated to trawl and hook-and-line gears for 2007 and to trawl gear in 2008. Tables 3 and 4 list these amounts.
⁷. ″Pacific ocean perch″ means Sebastes alutus.
⁸. ″Shortraker rockfish″ means Sebastes borealis.
⁹. ″Rougheye rockfish″ means Sebastes aleutianus.
¹⁰. ″Other rockfish″ in the Western and Central Regulatory Areas and in the West Yakutat District means slope rockfish and demersal shelf rockfish. The category ″other rockfish″ in the SEO District means slope rockfish.
¹¹. ″Slope rockfish″ means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern GOA only, slope rockfish also includes northern rockfish, S. polyspinous.
¹². ″Northern rockfish″ means Sebastes polyspinis.
¹³. ″Pelagic shelf rockfish″ means Sebastes ciliatus (dark), S. variabilis (dusky), S. entomelas (widow), and S. flavidus (yellowtail).
¹⁴. Big skate means Raja binoculata.
¹⁵. Longnose skate means Raja rhina.
¹⁶. Other skates means Bathyraja spp.
¹⁷. ″Demersal shelf rockfish″ means Sebastes pinniger (canary), S. nebulosus (china), S. caurinus (copper), S. maliger (quillback), S. helvomaculatus (rosethorn), S. nigrocinctus (tiger), and S. ruberrimus (yelloweye).
¹⁸. ″Other species″ means sculpins, sharks, squid, and octopus. There is no OFL or ABC for ″other species.″ The FMP specifies that the amount for the ″other species″ category be set at an amount less than or equal to 5% of the combined TAC amounts for target species.
¹⁹. The total ABC and OFL is the sum of the ABCs and OFLs for assessed target species.

Proposed Apportionment of Reserves

Section 679.20(b)(2) requires that 20 percent of each TAC for pollock, Pacific cod, flatfish, and the “other species” category be set aside in reserves for possible apportionment at a later date. In 2006, NMFS apportioned all of the reserves in the final harvest specifications. For 2007 and 2008, NMFS proposes apportionment of all of the reserves for pollock, Pacific cod, flatfish, and “other species.” Specifications of TAC listed in Tables 1 and 2 reflect apportionment of reserve amounts for these species and species groups.

Proposed Allocations of the Sablefish TAC Amounts to Vessels Using Hook-and-Line and Trawl Gear

Sections 679.20(a)(4)(i) and (ii) require allocation of sablefish TACs for each of the regulatory areas and districts to hook-and-line and trawl gear. In the Western and Central Regulatory Areas, 80 percent of each TAC is allocated to hook-and-line gear, and 20 percent of each TAC is allocated to trawl gear. In the Eastern GOA, 95 percent of the TAC is allocated to hook-and-line gear and 5 percent is allocated to trawl gear. The trawl gear allocation in the Eastern GOA may only be used to support incidental catch of sablefish in directed fisheries for other target species (§ 679.20(a)(4)(i)). In recognition of the trawl ban in the SEO District of the Eastern GOA, the Council recommended and NMFS proposes that the allocation of 5 percent of the combined Eastern Regulatory Area sablefish TAC be available to trawl gear in the WYK District and the remainder to vessels using hook-and-line gear. As a result, NMFS proposes to allocate 100 percent of the sablefish TAC in the SEO District to vessels using hook-and-line gear. The Council recommended that only trawl sablefish TAC be established biennially. This recommendation results in a proposed 2007 allocation of 268 mt to trawl gear and 1,835 mt to hook-and-line gear in the WYK District and 3,254 mt to hook-and-line gear in the SEO District. Table 3 lists the allocations of the proposed 2007 sablefish TACs between hook-and-line gear and trawl gear. Table 4 lists the allocations of the proposed 2008 sablefish TACs to trawl gear.

Table 3 - Proposed 2007 Sablefish TAC Specifications in the Gulf of Alaska and Allocations to Hook-and-Line and Trawl Gear (values are rounded to the nearest metric ton)
Area/district | TAC | Hook-and-line allocation | Trawl allocation
Western | 2,464 | 1,971 | 493
Central | 5,879 | 4,703 | 1,176
West Yakutat | 2,103 | 1,835 | 268
Southeast Outside | 3,254 | 3,254 | 0
Total | 13,700 | 11,763 | 1,937

Table 4 - Proposed 2008 Sablefish TAC Specifications in the Gulf of Alaska and Allocation to Trawl Gear(values are rounded to the nearest metric ton)
Area/district | TAC | Hook-and-line allocation¹ | Trawl allocation
Western | 2,213 | n/a | 443
Central | 5,278 | n/a | 1,056
West Yakutat | 1,888 | n/a | 240
Southeast Outside | 2,921 | n/a | 0
Total | 12,300 | n/a | 1,739
¹ The Council recommended that harvest specifications for the hook-and-line gear sablefish Individual Fishing Quota fisheries be limited to 1 year.

Proposed Apportionments of Pollock TAC Among Seasons and Regulatory Areas, and Allocations for Processing by Inshore and Offshore Components

In the GOA, pollock is apportioned by season and area, and is further divided between inshore and offshore processing components. Pursuant to § 679.20(a)(5)(iv)(B), the annual pollock TAC specified for the Western and Central Regulatory Areas of the GOA is apportioned into four equal seasonal allowances of 25 percent. As established by § 679.23(d)(2)(i) through (iv), the A, B, C, and D season allowances are available from January 20 through March 10, March 10 through May 31, August 25 through October 1, and October 1 through November 1, respectively.

Pollock TACs in the Western and Central Regulatory Areas of the GOA are apportioned among statistical areas 610, 620, and 630. In the A and B seasons, the apportionments are in proportion to the distribution of pollock biomass based on a composite of NMFS winter surveys. In the C and D seasons, the apportionments are in proportion to the distribution of pollock biomass based on the four most recent NMFS summer surveys. For 2007 and 2008, the Council recommended averaging the winter and summer distribution of pollock in the Central Regulatory Area for the A season. The average is intended to reflect the distribution of pollock as indicated by the historic performance of the fishery during the A season. Within any fishing year, the underage or overage of a seasonal allowance may be added to, or subtracted from, subsequent seasonal allowances. The rollover amount is limited to 20 percent of the unharvested seasonal apportionment for the statistical area. Any unharvested pollock above the 20 percent limit could be further distributed to the other statistical areas, in proportion to the estimated biomass in the subsequent season in those statistical areas (§ 679.20(a)(5)(iv)(B)). The WYK and SEO District pollock TACs of 1,447 mt and 6,157 mt in 2007 and 1,481 mt and 6,157 mt in 2008, respectively, are not allocated by season.

Section 679.20(a)(6)(i) requires the allocation of 100 percent of the pollock TAC in all regulatory areas and all seasonal allowances to vessels catching pollock for processing by the inshore component after subtraction of amounts that are projected by the Regional Administrator to be caught by, or delivered to, the offshore component incidental to directed fishing for other groundfish species. The amount of pollock available for harvest by vessels harvesting pollock for processing by the offshore component is that amount actually taken as incidental catch during directed fishing for groundfish species other than pollock, up to the maximum retainable amounts allowed under § 679.20(e) and (f). At this time, these incidental catch amounts are unknown and will be determined during the fishing year.

The proposed 2007 and 2008 seasonal biomass distribution of pollock in the Western and Central Regulatory Areas, area apportionments, and seasonal apportionments for the A, B, C, and D seasons are summarized in Tables 5 and 6, except that amounts of pollock for processing by the inshore and offshore components are not shown.

Table 5 - Proposed 2007 Distribution of Pollock in the Central and Western Regulatory Areas of the Gulf of Alaska; Seasonal Biomass Distribution, Area Apportionments; and Seasonal Allowances of Annual TAC
(values are rounded to the nearest metric ton)(area apportionments resulting from seasonal distribution of biomass)
Season | Shumagin(Area 610) | Chirikof(area 620) | Kodiak(area 630) | Total
A | 3,402 (21.63%) | 9,042 (57.50%) | 3,282 (20.87%) | 15,726 (100%)
B | 3,401 (21.63%) | 10,821 (68.81%) | 1,503 (9.56%) | 15,725 (100%)
C | 8,280 (52.65%) | 2,386 (15.17%) | 5,060 (32.17%) | 15,726 (100%)
D | 8,280 (52.65%) | 2,386 (15.17%) | 5,060 (32.17%) | 15,726 (100%)
Annual Total | 23,363 | 24,635 | 14,905 | 62,903

Table 6 - Proposed 2008 Distribution of Pollock in the Central and Western Regulatory Areas of the Gulf of Alaska; Seasonal Biomass Distribution, Area Apportionments; and Seasonal Allowances of Annual TAC
(values are rounded to the nearest metric ton)(area apportionments resulting from seasonal distribution of biomass)
Season | Shumagin(Area 610) | Chirikof(area 620) | Kodiak(area 630) | Total
A | 3,481 (21.63%) | 9,254 (57.50%) | 3,358 (20.87%) | 16,093 (100%)
B | 3,481 (21.63%) | 11,073 (68.81%) | 1,538 (9.56%) | 16,092 (100%)
C | 8,473 (52.65%) | 2,441 (15.17%) | 5,178 (32.17%) | 16,092 (100%)
D | 8,473 (52.65%) | 2,441 (15.17%) | 5,178 (32.17%) | 16,092 (100%)
Annual Total | 23,908 | 25,209 | 15,252 | 64,369

Proposed Seasonal Apportionments of Pacific Cod TAC and Allocations for Processing of Pacific Cod TAC Between Inshore and Offshore Components

Pacific cod fishing is divided into two seasons in the Western and Central Regulatory Areas of the GOA. For hook-and-line, pot, and jig gear, the A season is January 1 through June 10, and the B season is September 1 through December 31. For trawl gear, the A season is January 20 through June 10, and the B season is September 1 through November 1 (§ 679.23(d)(3)). After subtraction of incidental catch, 60 percent and 40 percent of the annual TAC will be available for harvest during the A and B seasons, respectively, and will be apportioned between the inshore and offshore processing components, as provided in § 679.20(a)(6)(ii). Between the A and the B seasons, directed fishing for Pacific cod is closed, and fishermen participating in other directed fisheries may retain Pacific cod up to the maximum retainable amounts allowed under § 679.20(e) and (f). Under § 679.20(a)(11)(ii), any overage or underage of Pacific cod allowance from the A season may be subtracted from or added to the subsequent B season allowance.

Section 679.20(a)(6)(ii) requires the allocation of the Pacific cod TAC apportionment in all regulatory areas between vessels catching Pacific cod for processing by the inshore and offshore components. Ninety percent of the Pacific cod TAC in each regulatory area is allocated to vessels catching Pacific cod for processing by the inshore component. The remaining 10 percent of the TAC is allocated to vessels catching Pacific cod for processing by the offshore component. These seasonal apportionments and allocations of the proposed 2007 and 2008 Pacific cod TACs are listed in Tables 7 and 8, respectively.

Table 7 - Proposed 2007 Seasonal Apportionments and Allocation of Pacific Cod TAC Amounts in the Gulf of Alaska; Allocations for Processing by the Inshore and Offshore Components
(values are rounded to the nearest metric ton)
Season | Regulatory area | TAC | Component allocation: Inshore (90%) | Component allocation: Offshore (10%)
| Western | 17,228 | 15,505 | 1,723
A season (60%) |  | 10,337 | 9,303 | 1,034
B season (40%) |  | 6,891 | 6,202 | 689
| Central | 24,296 | 21,866 | 2,430
A season (60%) |  | 14,578 | 13,120 | 1,458
B season (40%) |  | 9,718 | 8,746 | 972
| Eastern | 3,181 | 2,863 | 318
Total |  | 44,705 | 40,234 | 4, 471

Table 8 - Proposed 2008 Seasonal Apportionments and Allocation of Pacific Cod TAC Amounts in the Gulf of Alaska; Allocations for Processing by the Inshore and Offshore Components
(values are rounded to the nearest metric ton)
Season | Regulatory area | TAC | Component allocation: Inshore (90%) | Component allocation: Offshore (10%)
| Western | 11,729 | 10,556 | 1,723
A season (60%) |  | 7,037 | 6,334 | 704
B season (40%) |  | 4,692 | 4,222 | 469
| Central | 16,541 | 14,887 | 1,654
A season (60%) |  | 9,925 | 11,019 | 992
B season (40%) |  | 6,616 | 5,955 | 662
| Eastern | 2,165 | 1,949 | 216
Total |  | 30,435 | 27,392 | 3,043

Proposed Apportionments to the Central GOA Rockfish Pilot Program

After deducting incidental catch needs in other directed groundfish fisheries in the Central Regulatory Area, 5 percent (2.5 percent to trawl gear and 2.5 percent to fixed gear) of the proposed TACs for Pacific ocean perch, northern rockfish, and pelagic shelf rockfish in the Central Regulatory Area would be allocated to the entry level rockfish fishery and the remaining 95 percent to those vessels eligible to participate in the Rockfish Program as described in the proposed and final rules for the Rockfish Program (71 FR 33040, June 7, 2006 and 71 FR 67210, November 20, 2006, respectively). NMFS proposes the 2007 and 2008 incidental catch amounts of 120 mt for northern rockfish, 100 mt for pelagic shelf rockfish, and 330 mt for Pacific ocean perch for other directed groundfish fisheries in the Central Regulatory Area. These proposed amounts are based on the 2003 through 2006 average incidental catch in the Central Regulatory Area by these other groundfish fisheries.

Proposed Halibut PSC Limits

Section 679.21(d) establishes annual halibut PSC limit apportionments to trawl and hook-and-line gear and may establish apportionments for pot gear. In October 2006, the Council recommended that NMFS maintain the 2006 halibut PSC limits of 2,000 mt for the trawl fisheries and 300 mt for the hook-and-line fisheries. Ten mt of the hook-and-line limit is further allocated to the demersal shelf rockfish (DSR) fishery in the SEO District. The DSR fishery is defined at § 679.21(d)(4)(iii)(A). This fishery has been apportioned 10 mt in recognition of its small scale harvests. Most vessels in the DSR fishery are less than 60 ft (18.3 m) length overall (LOA) making them exempt from observer coverage. Therefore, observer data are not available to verify actual bycatch amounts. NMFS assumes the halibut bycatch in the DSR fishery is low because of the short soak times for the gear and short duration of the fishery. Also, the DSR fishery occurs in the winter when less overlap occurs in the distribution of DSR and halibut.

Section 679.21(d)(4) authorizes the exemption of specified non-trawl fisheries from the halibut PSC limit. As in past years, NMFS, after consultation with the Council, proposes to exempt pot gear, jig gear, and the sablefish IFQ (Individual Fishing Quota) hook-and-line gear fishery categories from the non-trawl halibut PSC limit for 2007 and 2008. The Council recommended these exemptions because: (1) the pot gear fisheries have low halibut bycatch mortality (averaging 18 mt annually from 2001 through 2005 and 21 mt through November 4, 2006); (2) the sablefish and halibut IFQ fisheries have low halibut bycatch mortality because the IFQ program requires legal-sized halibut to be retained by vessels using hook-and-line gear if a halibut IFQ permit holder is aboard and is holding unused halibut IFQ; and (3) halibut mortality for the jig gear fisheries is assumed to be negligible although it cannot be estimated because these vessels do not carry observers. Halibut mortality is assumed to be very low in the jig gear fisheries given the small amount of groundfish harvested by jig gear (averaging 298 mt annually from 2001 through 2005 and 115 mt through October 7, 2006), the selective nature of jig gear, and the likelihood that halibut caught with jig gear have a high survival rate when released.

Section 679.21(d)(5) provides NMFS with the authority to seasonally apportion the halibut PSC limits after consultation with the Council. The FMP and regulations require that the Council and NMFS consider the following information in seasonally apportioning halibut PSC limits: (1) seasonal distribution of halibut, (2) seasonal distribution of target groundfish species relative to halibut distribution, (3) expected halibut bycatch needs on a seasonal basis relative to changes in halibut biomass and expected catch of target groundfish species, (4) expected bycatch rates on a seasonal basis, (5) expected changes in directed groundfish fishing seasons, (6) expected actual start of fishing effort, and (7) economic effects of establishing seasonal halibut allocations on segments of the target groundfish industry.

The final 2006 and 2007 harvest specifications (71 FR 10870, March 3, 2006) summarized the Council and NMFS' findings with respect to each of these FMP considerations. The Council and NMFS' findings for 2007 and 2008 are unchanged from 2006. Table 9 lists the 2007 and 2008 proposed Pacific halibut PSC limits and apportionments. Sections 679.21(d)(5)(iii) and (iv) specify that any underages or overages in a seasonal apportionment of a PSC limit will be deducted from or added to the next respective seasonal apportionment within the 2007 and 2008 fishing years.

Table 9 - Proposed 2007 and 2008 Pacific Halibut PSC Limits, Allowances, and Apportionments
(values are in metric tons)
Trawl gear: Dates | Trawl gear: Amount | Hook-and-line gear¹: Other than DSR: Dates | Hook-and-line gear¹: Other than DSR: Amount | Hook-and-line gear¹: DSR: Dates | Hook-and-line gear¹: DSR: Amount
January 20-April 1 | 550 (27.5%) | January 1-June 10 | 250 (86%) | January 1-December 31 | 10 (100%)
April 1-July 1 | 400 (20%) | June 10-September 1 | 5 (2%) |  |
July 1-September 1 | 600 (30%) | September 1-December 31 | 35 (12%) |  |
September 1-October 1 | 150 (7.5%) | .......... | .......... |  |
October 1-December 31 | 300 (15%) | .......... | .......... |  |
Total | 2,000 (100%) |  | 290 (100%) |  | 10 (100%)
¹ The Pacific halibut PSC limit for hook-and-line gear is allocated to the demersal shelf rockfish (DSR) fishery and fisheries other than DSR. The hook-and-line sablefish fishery is exempt from halibut PSC limits.

Section 679.21(d)(3)(ii) authorizes further apportionment of the trawl halibut PSC limit to trawl fishery categories. The annual apportionments are based on each category's proportional share of the anticipated halibut bycatch mortality during a fishing year and optimization of the total amount of groundfish harvest under the halibut PSC limit. The fishery categories for the trawl halibut PSC limits are (1) a deep-water species category, comprised of sablefish, rockfish, deep-water flatfish, rex sole and arrowtooth flounder; and (2) a shallow-water species category, comprised of pollock, Pacific cod, shallow-water flatfish, flathead sole, Atka mackerel, skates, and “other species” (§ 679.21(d)(3)(iii)). Table 10 lists the 2007 and 2008 proposed seasonal apportionments for the two fishery categories. Based on public comment and information contained in the final 2006 SAFE report, the Council may recommend, or NMFS may make, changes in the seasonal, gear-type, or fishery category apportionments of halibut PSC limits for the final 2007 and 2008 harvest specifications.

Table 10 - Proposed 2007 and 2008 Seasonal Apportionments of Pacific Halibut PSC Trawl Limits Between the Trawl Gear Deep-water Species Categories and the Shallow-water Species Categories
(values are in metric tons)
Season | Shallow-water | Deep-water | Total
January 20-April 1 | 450 | 100 | 550
April 1-July 1 | 100 | 300 | 400
July 1-September 1 | 200 | 400¹ | 600
September 1-October 1 | 150 | Any remainder | 150
Subtotal January 20-October 1 | 900 | 800 | 1,700
October 1-December 31² | n/a | n/a | 300
Total | n/a | n/a | 2,000
¹ Vessels participating in coops in the Central Gulf of Alaska Pilot Rockfish Program will receive a portion of the third season (July 1- September 1) deep-water category halibut PSC apportionment. At this time this amount is not known but will be posted later on the Alaska Region website at http://www.fakr.noaa.gov when it becomes available.
² There is no apportionment between shallow-water and deep-water trawl fishery categories during the fifth season (October 1 through December 31).

Estimated Halibut Bycatch in Prior Years

The best available information on estimated halibut bycatch is data collected by observers during 2006. The calculated halibut bycatch mortality by trawl, hook-and-line, and pot gears through October 7, 2006, is 1,893 mt, 168 mt, and 16 mt, respectively, for a total halibut mortality of 2,077 mt.

Halibut bycatch restrictions seasonally constrained trawl gear fisheries during the 2006 fishing year. Trawling during the second season closed for the deep-water species category April 27 (71 FR 25781, May 2, 2006) and during the fourth season September 5 (71 FR 52754, September 7, 2006). Trawling during the first season closed for the shallow-water species category from February 23 to February 27 (71 FR 9977, February 28, 2006, and 71 FR 10625, March 2, 2006) and during the second season on June 10 (71 FR 34021, June 13, 2006). To prevent exceeding the fourth season halibut PSC limit for the shallow-water species category, directed fishing using trawl gear was limited to four 12-hour open periods on September 1 (71 FR 51784, August 31, 2006), September 6 (71 FR 53339, September 11, 2006), September 20 (71 FR 55134, September 21, 2006), and September 25 (71 FR 56898, September 28, 2006). Trawling for all groundfish targets (with the exception of pollock by vessels using pelagic trawl gear) closed for the fifth season on October 8 (71 FR 60078, October 12, 2006). Fishing for groundfish using hook-and-line gear has remained open in 2006 as the halibut PSC limit has not been reached (as of October 7, 2006). The amount of groundfish that trawl gear might have harvested if halibut PSC limits had not restricted the 2006 season is unknown.

Expected Changes in Groundfish Stocks and Catch

Proposed 2007 and 2008 ABCs for deep-water flatfish, flathead sole, arrowtooth flounder, Pacific ocean perch, northern rockfish, and pelagic shelf rockfish are higher than those established for 2006. However, the proposed 2007 and 2008 ABCs for pollock, Pacific cod, sablefish, rex sole, and “other species” are lower than those established for 2006. For the remaining target species, the Council recommended that ABC levels remain unchanged from 2006. More information on these changes is included in the final SAFE report (November 2005) and in the Council, SSC, and AP minutes from the October 2006 meeting available from the Council (see ADDRESSES).

In the GOA, the total proposed TAC amounts are 264,367 mt for 2007, and 251,092 mt for 2008, a decrease of about 10.5 percent in 2007 and 14.0 percent in 2008 from the 2006 TAC total of 291,950 mt. Table 11 compares the final TACs for 2006 to the proposed TACs for 2007 and 2008.

Table 11 - Comparison of Final 2006 and Proposed 2007 and 2008 Total Allowable Catch in the Gulf of Alaska
(values are rounded to the nearest metric ton)
Species | 2006 | 2007 | 2008
Pollock | 86,807 | 70,507 | 72,007
Pacific cod | 52,264 | 44,705 | 30,435
Sablefish | 14,840 | 13,700 | 12,300
Rex sole | 9,200 | 8,700 | 8,600
“Other species” | 13,856 | 4,500 | 4,500
Deep-water flatfish | 8,665 | 8,677 | 8,677
Flathead sole | 9,077 | 9,148 | 9,252
Arrowtooth flounder | 38,000 | 43,000 | 43,000
Pacific ocean perch | 14,261 | 14,699 | 14,900
Northern rockfish | 5,091 | 5,900 | 5,800
Pelagic shelf rockfish | 5,436 | 5,461 | 6,251

Current Estimates of Halibut Biomass and Stock Condition

The most recent halibut stock assessment was conducted by the International Pacific Halibut Commission (IPHC) in December 2005 for the 2006 commercial fishery. The 2005 assessment methods are unchanged from the previous year. The current exploitable halibut biomass in Alaska for 2006 was estimated to be 189,543 mt, down from 192,023 mt in 2005. The female spawning biomass remains far above the minimum spawning biomass that occurred in the 1970s.

The exploitable biomass of the Pacific halibut stock apparently peaked at 326,520 mt in 1988. According to the IPHC, the long-term average reproductive biomass for the Pacific halibut resource is estimated at 118,000 mt. Long-term average yield is estimated at 26,980 mt, round weight. The species is fully utilized. Recent average catches (1994-2005) in the commercial halibut fisheries off Alaska have averaged 34,169 mt, round weight. Catch in waters off Alaska is 27 percent higher than long-term potential yield for the entire halibut stock, reflecting the good condition of the Pacific halibut resource. In January 2006, the IPHC recommended Alaska commercial catch limits totaling 33,421 mt, round weight, in 2006, down from 34,459 mt in 2005. Through October 12, 2006, commercial hook-and line harvests of halibut off Alaska totaled 29,060 mt, round weight.

In 2004, IPHC staff identified a 25 percent harvest rate as a candidate target rate for use with the new population assessment, pending its evaluation using the sex-specific population model. This updated evaluation indicated that a harvest rate less than 25 percent would result in a 50 percent lower probability that the stock biomass would reach a level requiring reductions in harvest rate. For 2006, the IPHC staff recommended a harvest rate of 22.5 percent for Areas 2C and 3A, 20 percent in Areas 3B and 4A, and 15 percent in Areas 4B and 4CDE. These are the same rates as used in 2005 except in Areas 4B and 4CDE, where the rate has been reduced from 20 percent to 15 percent. For Area 4B, the continued decline in biomass relative to the estimated historical minimum, the lack of recruitment, and a new analysis of productivity, prompted the IPHC staff to recommend the lower harvest rate of 15 percent. Similarly for Area 4CDE, the sharp decline in survey and commercial catch rates resulted in the IPHC staff's recommendation of a 15 percent harvest rate.

Additional information on the Pacific halibut stock assessment may be found in the IPHC's 2005 Pacific halibut stock assessment (December 2005), available on the IPHC website at http://www.iphc.washington.edu. The IPHC will consider the 2006 Pacific halibut assessment for 2007 at its January 2007 annual meeting when it sets the 2007 commercial halibut fishery quotas.

Other Factors

The allowable commercial catch of halibut will be adjusted to account for the overall halibut PSC mortality limit established for groundfish fisheries. The 2007 and 2008 groundfish fisheries are expected to use the entire proposed annual halibut PSC limit of 2,300 mt. The allowable directed commercial catch is determined by first accounting for recreational and subsistence catch, waste, and bycatch mortality, and then providing the remainder to the directed fishery. Groundfish fishing is not expected to adversely affect the halibut stocks. Methods available for reducing halibut bycatch include: (1) publication of individual vessel bycatch rates on the NMFS Alaska Region website at http://www.fakr.noaa.gov, (2) modifications to gear, (3) changes in groundfish fishing seasons, (4) individual transferable quota programs, and (5) time/area closures.

Reductions in groundfish TAC amounts provide no incentive for fishermen to reduce bycatch rates. Costs that would be imposed on fishermen as a result of reducing TAC amounts depend on the species and amounts of groundfish foregone.

Under § 679.2, the definition of “Authorized fishing gear” specifies requirements for biodegradable panels and tunnel openings for groundfish pots to reduce halibut bycatch. As a result, low bycatch and mortality rates of halibut in pot fisheries have justified exempting pot gear from PSC limits.

The regulations at § 679.2 under “Authorized fishing gear,” also define “pelagic trawl gear” in a manner intended to reduce bycatch of halibut by displacing fishing effort off the bottom of the sea floor when certain halibut bycatch levels are reached during the fishing year. The definition provides standards for physical conformation and performance of the trawl gear in terms of crab bycatch (§ 679.7(a)(14)). Furthermore, all hook-and-line vessel operators are required to employ careful release measures when handling halibut bycatch (§ 679.7(a)(13)). These measures are intended to reduce handling mortality, thereby lowering overall halibut bycatch mortality in the groundfish fisheries, and to increase the amount of groundfish harvested under the available halibut mortality bycatch limits.

NMFS and the Council will review the methods available for reducing halibut bycatch listed here to determine their effectiveness, and will initiate changes, as necessary, in response to this review or to public testimony and comment.

Halibut Discard Mortality Rates

The Council recommends and NMFS proposes that the halibut discard mortality rates (DMRs) developed and recommended by the staff of the IPHC for the 2007 and 2008 GOA groundfish fisheries be used to monitor the 2007 and 2008 GOA proposed halibut bycatch mortality limits. The IPHC recommended use of long-term average DMRs for the 2007 and 2008 groundfish fisheries. The IPHC will analyze observer data annually and recommend changes to the DMRs where a fishery DMR shows large variation from the mean. Most of the IPHC's assumed DMRs were based on an average of mortality rates determined from NMFS observer data collected between 1996 and 2005. Long-term average DMRs were not available for some fisheries, so rates from the most recent years were used. For the “other species” and skate fisheries, where insufficient mortality data are available, the mortality rate of halibut caught in the Pacific cod fishery for each gear type was recommended as a default rate. The GOA DMRs proposed for 2007 and 2008 are revised from those used in 2006. The DMRs for hook-and-line target fisheries range from 10 to 14 percent. The DMRs for trawl target fisheries range from 53 to 76 percent. The DMRs for all pot target fisheries is 16 percent. Table 12 lists the 2007 and 2008 proposed DMRs. A copy of the document justifying these DMRs is available from the Council (see ADDRESSES) and will be discussed in Appendix A of the final 2006 SAFE report to be released November 2006.

Table 12 - Proposed 2007 and 2008 Halibut Discard Mortality Rates for Vessels Fishing in the Gulf of Alaska
(values are percent of halibut bycatch assumed to be dead)
Gear | Target | Mortality Rate (%)
Hook-and-line | Other species | 14
| Skates | 14
| Pacific cod | 14
| Rockfish | 10
Trawl | Arrowtooth flounder | 69
| Atka mackerel | 60
| Deep-water flatfish | 53
| Flathead sole | 61
| Non-pelagic pollock | 59
| Other species | 63
| Skates | 63
| Pacific cod | 63
| Pelagic pollock | 76
| Rex sole | 63
| Rockfish | 67
| Sablefish | 65
| Shallow-water flatfish | 71
Pot | Other species | 16
| Skates | 16
| Pacific cod | 16

Non-exempt American Fisheries Act (AFA) Catcher Vessel Groundfish Harvest and PSC Limits

Section 679.64 established groundfish harvesting and processing sideboard limits on AFA catcher/processors and catcher vessels in the GOA. These sideboard limits are necessary to protect the interests of fishermen and processors who do not directly benefit from the AFA from fishermen and processors who receive exclusive harvesting and processing privileges under the AFA. Listed AFA catcher/processors are prohibited from harvesting any species of fish in the GOA (§ 679.7(k)(1)(ii)). The listed AFA catcher/processors also are prohibited from processing any pollock in the GOA and any groundfish harvested in Statistical Area 630 of the GOA (§ 679.7(k)(1)(iv)). AFA catcher vessels that are less than 125 ft (38.1 m) LOA whose annual Bering Sea and Aleutian Islands pollock landings totaled less than 5,100 mt and that made 40 or more GOA groundfish landings from 1995 through 1997 are exempt from these sideboard limits (§ 679.64(b)(2)(ii)).

Sideboard limits for non-exempt AFA catcher vessels operating in the GOA are based on their traditional harvest levels of TAC in groundfish fisheries covered by the GOA FMP. Section 679.64(b)(3)(iii) establishes the GOA groundfish sideboard limits based on the retained catch of non-exempt AFA catcher vessels of each sideboard species from 1995 through 1997 divided by the TAC for that species over the same period. These proposed amounts are listed in Table 13 for 2007 and in Table 14 for 2008. All targeted or incidental catch of sideboard species made by non-exempt AFA catcher vessels will be deducted from the sideboard limits in Tables 13 and 14.

Table 13 - Proposed 2007 GOA Non-Exempt American Fisheries Act Catcher Vessel (CV) Groundfish Harvest Sideboard Limits
(values are rounded to nearest metric ton)
Species | Area/season/component/gear | Ratio of 1995-1997 non-exempt AFA CV catch to 1995-1997 TAC | 2007 TAC | 2007 non-exempt AFA CV sideboard limit
Pollock | A Season (W/C areas only) |  |  |
| January 20 - March 10 |  |  |
| Shumagin (610) | 0.6112 | 3,402 | 2,079
| Chirikof (620) | 0.1427 | 9,042 | 1,290
| Kodiak (630) | 0.2438 | 3,282 | 800
| B Season (W/C areas only) |  |  |
| March 10 - May 31 |  |  |
| Shumagin (610) | 0.6112 | 3,401 | 2,079
| Chirikof (620) | 0.1427 | 10,821 | 1,544
| Kodiak (630) | 0.2438 | 1,503 | 366
| C Season (W/C areas only) |  |  |
| August 25 - October 1 |  |  |
| Shumagin (610) | 0.6112 | 8,280 | 5,061
| Chirikof (620) | 0.1427 | 2,386 | 340
| Kodiak (630) | 0.2438 | 5,060 | 1,234
| D Season (W/C areas only) |  |  |
| October 1 - November 1 |  |  |
| Shumagin (610) | 0.6112 | 8,280 | 5,061
| Chirikof (620) | 0.1427 | 2,386 | 340
| Kodiak (630) | 0.2438 | 5,060 | 1,234
| Annual |  |  |
| WYK (640) | 0.3499 | 1,447 | 506
| SEO (650) | 0.3499 | 6,157 | 2,154
Pacific cod | A Season¹ |  |  |
| January 1 - June 10 |  |  |
| W inshore | 0.1423 | 9,303 | 1,324
| W offshore | 0.1026 | 1,034 | 106
| C inshore | 0.0722 | 13,120 | 947
| C offshore | 0.0721 | 1,458 | 105
| B Season² |  |  |
| September 1 - December 31 |  |  |
| W inshore | 0.1423 | 6,202 | 883
| W offshore | 0.1026 | 689 | 71
| C inshore | 0.0722 | 8,746 | 631
| C offshore | 0.0721 | 972 | 70
| Annual |  |  |
| E inshore | 0.0079 | 2,863 | 23
| E offshore | 0.0078 | 318 | 2
Flatfish | W | 0.0000 | 421 | 0
deep-water | C | 0.0670 | 4,145 | 278
| E | 0.0171 | 4,111 | 70
Rex sole | W | 0.0010 | 1,096 | 1
| C | 0.0402 | 5,207 | 209
| E | 0.0153 | 2,397 | 37
Flathead sole | W | 0.0036 | 2,000 | 7
| C | 0.0261 | 5,000 | 131
| E | 0.0048 | 2,148 | 10
Flathead shallow-water | W | 0.0156 | 4,500 | 70
| C | 0.0598 | 13,000 | 777
| E | 0.0126 | 2,472 | 31
Arrowtooth flounder | W | 0.0021 | 8,000 | 17
| C | 0.0309 | 30,000 | 927
| E | 0.0020 | 5,000 | 10
Sablefish | W trawl gear | 0.0000 | 493 | 0
| C trawl gear | 0.0720 | 1,176 | 85
| E trawl gear | 0.0488 | 268 | 13
Pacific ocean perch | W | 0.0623 | 4,282 | 267
| C | 0.0866 | 7,646 | 662
| E | 0.0466 | 2,771 | 129
Shortraker rockfish | W | 0.0000 | 153 | 0
| C | 0.0237 | 353 | 8
| E | 0.0124 | 337 | 4
Rougheye rockfish | W | 0.0000 | 124 | 0
| C | 0.0237 | 557 | 13
| E | 0.0124 | 219 | 3
Other rockfish | W | 0.0034 | 577 | 2
| C | 0.2065 | 386 | 80
| E | 0.0000 | 517 | 0
Northern rockfish | W | 0.0003 | 1,719 | 1
| C | 0.0336 | 4,181 | 141
Pelagic shelf rockfish | W | 0.0001 | 1,452 | 0
| C | 0.0000 | 3,270 | 0
| E | 0.0067 | 739 | 5
Thornyhead rockfish | W | 0.0308 | 513 | 16
| C | 0.0308 | 989 | 30
| E | 0.0308 | 707 | 22
Big skates | W | 0.0090 | 695 | 6
| C | 0.0090 | 2,250 | 20
| E | 0.0090 | 599 | 5
Longnose skates | W | 0.0090 | 65 | 1
| C | 0.0090 | 1,969 | 18
| E | 0.0090 | 861 | 8
Other skates | Gulfwide | 0.0090 | 1,617 | 15
Demersal shelf rockfish | SEO | 0,0020 | 410 | 1
Atka mackerel | Gulfwide | 0.0309 | 1,500 | 46
Other species | Gulfwide | 0.0090 | 4,500 | 41
¹ The Pacific cod A season for trawl gear does not open until January 20.
² The Pacific cod B season for trawl gear closes November 1.

Table 14 - Proposed 2008 GOA Non-Exempt American Fisheries Act Catcher Vessel (CV) Groundfish Harvest Sideboard Limits
(values are rounded to nearest metric ton)
Species | Area/season/component/gear | Ratio of 1995-1997 non-exempt AFA CV catch to 1995-1997 TAC | 2008 TAC | 2008 non-exempt AFA CV sideboard limit
Pollock | A Season (W/C areas only) |  |  |
| January 20 - March 10 |  |  |
| Shumagin (610) | 0.6112 | 3,481 | 2,128
| Chirikof (620) | 0.1427 | 9,254 | 1,321
| Kodiak (630) | 0.2438 | 3,358 | 819
| B Season (W/C areas only) |  |  |
| March 10 - May 31 |  |  |
| Shumagin (610) | 0.6112 | 3,481 | 2,128
| Chirikof (620) | 0.1427 | 11,073 | 1,580
| Kodiak (630) | 0.2438 | 1,538 | 375
| C Season (W/C areas only) |  |  |
| August 25 - October 1 |  |  |
| Shumagin (610) | 0.6112 | 8,473 | 5,179
| Chirikof (620) | 0.1427 | 2,441 | 348
| Kodiak (630) | 0.2438 | 5,178 | 1,262
| D Season (W/C areas only) |  |  |
| October 1 - November 1 |  |  |
| Shumagin (610) | 0.6112 | 8,473 | 5,179
| Chirikof (620) | 0.1427 | 2,441 | 348
| Kodiak (630) | 0.2438 | 5,178 | 1,262
| Annual |  |  |
| WYK (640) | 0.3499 | 1,481 | 518
| SEO (650) | 0.3499 | 6,157 | 2,154
Pacific cod | A Season¹ |  |  |
| January 1 - June 10 |  |  |
| W inshore | 0.1423 | 6,334 | 901
| W offshore | 0.1026 | 704 | 72
| C inshore | 0.0722 | 11,019 | 796
| C offshore | 0.0721 | 992 | 72
| B Season² |  |  |
| September 1 - December 31 |  |  |
| W inshore | 0.1423 | 4,222 | 601
| W offshore | 0.1026 | 469 | 48
| C inshore | 0.0722 | 5,955 | 433
| C offshore | 0.0721 | 662 | 48
| Annual |  |  |
| E inshore | 0.0079 | 1,949 | 15
| E offshore | 0.0078 | 216 | 2
Flatfish | W | 0.0000 | 421 | 0
deep-water | C | 0.0670 | 4,145 | 278
| E | 0.0171 | 4,111 | 70
Rex sole | W | 0.0010 | 1,084 | 1
| C | 0.0402 | 5,147 | 207
| E | 0.0153 | 2,369 | 36
Flathead sole | W | 0.0036 | 2,000 | 7
| C | 0.0261 | 5,000 | 131
| E | 0.0048 | 2,252 | 11
Flathead shallow-water | W | 0.0156 | 4,500 | 70
| C | 0.0598 | 13,000 | 777
| E | 0.0126 | 2,472 | 31
Arrowtooth flounder | W | 0.0021 | 8,000 | 17
| C | 0.0309 | 30,000 | 927
| E | 0.0020 | 5,000 | 10
Sablefish | W trawl gear | 0.0000 | 443 | 0
| C trawl gear | 0.0720 | 1,056 | 76
| E trawl gear | 0.0488 | 240 | 12
Pacific ocean perch | W | 0.0623 | 4,341 | 270
| C | 0.0866 | 7,751 | 671
| E | 0.0466 | 2,808 | 131
Shortraker rockfish | W | 0.0000 | 153 | 0
| C | 0.0237 | 353 | 8
| E | 0.0124 | 337 | 4
Rougheye rockfish | W | 0.0000 | 124 | 0
| C | 0.0237 | 557 | 13
| E | 0.0124 | 219 | 3
Other rockfish | W | 0.0034 | 577 | 2
| C | 0.2065 | 386 | 80
| E | 0.0000 | 517 | 0
Northern rockfish | W | 0.0003 | 1,719 | 1
| C | 0.0336 | 4,181 | 141
Pelagic shelf rockfish | W | 0.0001 | 1,653 | 0
| C | 0.0000 | 3,571 | 0
| E | 0.0067 | 847 | 6
Thornyhead rockfish | W | 0.0308 | 513 | 16
| C | 0.0308 | 989 | 30
| E | 0.0308 | 707 | 22
Big skates | W | 0.0090 | 695 | 6
| C | 0.0090 | 2,250 | 20
| E | 0.0090 | 599 | 5
Longnose skates | W | 0.0090 | 65 | 1
| C | 0.0090 | 1,969 | 18
| E | 0.0090 | 861 | 8
Other skates | Gulfwide | 0.0090 | 1,617 | 15
Demersal shelf rockfish | SEO | 0,0020 | 410 | 1
Atka mackerel | Gulfwide | 0.0309 | 1,500 | 46
Other species | Gulfwide | 0.0090 | 4,500 | 41
¹ The Pacific cod A season for trawl gear does not open until January 20.
² The Pacific cod B season for trawl gear closes November 1.

The PSC sideboard limits for non-exempt AFA catcher vessels in the GOA are based on the aggregate retained groundfish catch by non-exempt AFA catcher vessels in each PSC target category from 1995 through 1997 divided by the retained catch of all vessels in that fishery from 1995 through 1997 (§ 679.64(b)(4)). Table 15 lists these proposed amounts.

Table 15 - Proposed 2007 and 2008 Non-Exempt American Fisheries Act Catcher Vessel Halibut Prohibited Species Catch (PSC) Limits for the GOA
(values are in metric tons)
Season | Target fishery | Ratio of 1995-1997 non-exempt AFA CV retained catch to total retained catch | 2007 and 2008 PSC limit | 2007 and 2008 non-exempt AFA CV PSC limit
Trawl 1st seasonal allowance | shallow-water | 0.340 | 450 | 153
January 20 - April 1 | deep-water | 0.070 | 100 | 7
Trawl 2nd seasonal allowance | shallow-water | 0.340 | 100 | 34
April 1- July 1 | deep-water | 0.070 | 300 | 21
Trawl 3rd seasonal allowance | shallow-water | 0.340 | 200 | 68
July 1 - September 1 | deep-water | 0.070 | 400 | 28
Trawl 4th seasonal allowance | shallow-water | 0.340 | 150 | 51
September 1 - October 1 | deep-water | 0.070 | 0 | 0
Trawl 5th seasonal allowance | all targets | 0.205 | 300 | 61
October 1 - December 31 |  |  |  |

Non-AFA Crab Vessel Groundfish Sideboard Limits

Section 680.22 establishes groundfish catch limits for vessels with a history of participation in the Bering Sea snow crab fishery to prevent these vessels from using the increased flexibility provided by the Crab Rationalization Program to expand their level of participation in the GOA groundfish fisheries. Sideboard limits restrict a vessel's harvests to its historical landings in all GOA groundfish fisheries (except the fixed-gear sablefish fishery). Sideboard limits also apply to landings made using a LLP license derived from the history of a restricted vessel, even if that LLP is used on another vessel.

Sideboards limits for non-AFA crab vessels operating in the GOA are based on their traditional harvest levels of TAC in groundfish fisheries covered by the GOA FMP. Sections 680.22(d) and (e) base the groundfish sideboard limits in the GOA on the retained catch by non-AFA crab vessels of each sideboard species from 1996 through 2000 divided by the total retained harvest of that species over the same period. These proposed amounts are listed in Table 16 for 2007 and in Table 17 for 2008. All targeted or incidental catch of sideboard species made by non-AFA crab vessels will be deducted from the sideboard limits in Tables 16 and 17. Vessels exempt from Pacific cod sideboards are those that landed less than 45,359 kilograms of Bering Sea snow crab and more than 500 mt of groundfish (in round weight equivalents) from the GOA between January 1, 1996 and December 31, 2000, and any vessel named on an LLP that was generated in whole or in part by the fishing history of a vessel meeting the criteria in § 680.22(a)(3).

Table 16 - Proposed 2007 GOA Non-American Fisheries Act Crab Vessel Groundfish Harvest Sideboard Limits
(values are rounded to nearest metric ton)
Species | Area/season/component/gear | Ratio of 1996-2000 non-AFA crab vessel catch to 1996-2000 total harvest | Proposed 2007 TAC | Proposed 2007 non-AFA crab vessel sideboard limit
Pollock | A Season (W/C areas only) |  |  |
| January 20 - March 10 |  |  |
| Shumagin (610) | 0.0098 | 3,402 | 33
| Chirikof (620) | 0.0031 | 9,042 | 28
| Kodiak (630) | 0.0002 | 3,282 | 1
| B Season (W/C areas only) |  |  |
| March 10 - May 31 |  |  |
| Shumagin (610) | 0.0098 | 3,401 | 33
| Chirikof (620) | 0.0031 | 10,821 | 34
| Kodiak (630) | 0.0002 | 1,503 | 0
| C Season (W/C areas only) |  |  |
| August 25 - October 1 |  |  |
| Shumagin (610) | 0.0098 | 8,280 | 81
| Chirikof (620) | 0.0031 | 2,386 | 7
| Kodiak (630) | 0.0002 | 5,060 | 1
| D Season (W/C areas only) |  |  |
| October 1 - November 1 |  |  |
| Shumagin (610) | 0.0098 | 8,280 | 81
| Chirikof (620) | 0.0031 | 2,386 | 7
| Kodiak (630) | 0.0002 | 5,060 | 1
| Annual |  |  |
| WYK (640) | 0.0000 | 1,447 | 0
| SEO (650) | 0.0000 | 6,157 | 0
Pacific cod | A Season¹ |  |  |
| January 1 - June 10 |  |  |
| W inshore | 0.0902 | 9,303 | 839
| W offshore | 0.2046 | 1,034 | 212
| C inshore | 0.0383 | 13,120 | 502
| C offshore | 0.2074 | 1,458 | 302
| B Season² |  |  |
| September 1 - December 31 |  |  |
| W inshore | 0.0902 | 6,202 | 559
| W offshore | 0.2046 | 689 | 141
| C inshore | 0.0383 | 8,746 | 335
| C offshore | 0.2074 | 972 | 202
| Annual |  |  |
| E inshore | 0.0110 | 2,863 | 31
| E offshore | 0.0000 | 318 | 0
Flatfish | W | 0.0035 | 421 | 1
deep-water | C | 0.0000 | 4,145 | 0
| E | 0.0000 | 4,111 | 0
Rex sole | W | 0.0000 | 1,096 | 0
| C | 0.0000 | 5,207 | 0
| E | 0.0000 | 2,397 | 0
Flathead sole | W | 0.0002 | 2,000 | 0
| C | 0.0004 | 5,000 | 2
| E | 0.0000 | 2,148 | 0
Flathead shallow-water | W | 0.0059 | 4,500 | 27
| C | 0.0001 | 13,000 | 1
| E | 0.0000 | 2,472 | 0
Arrowtooth flounder | W | 0.0004 | 8,000 | 3
| C | 0.0001 | 30,000 | 3
| E | 0.0000 | 5,000 | 0
Sablefish | W trawl gear | 0.0000 | 493 | 0
| C trawl gear | 0.0000 | 1,176 | 0
| E trawl gear | 0.0000 | 268 | 0
Pacific ocean perch | W | 0.0000 | 4,282 | 0
| C | 0.0000 | 7,646 | 0
| E | 0.0000 | 2,771 | 0
Shortraker rockfish | W | 0.0013 | 153 | 0
| C | 0.0012 | 353 | 0
| E | 0.0009 | 337 | 0
Rougheye rockfish | W | 0.0067 | 124 | 1
| C | 0.0047 | 557 | 3
| E | 0.0008 | 219 | 0
Other rockfish | W | 0.0035 | 577 | 2
| C | 0.0033 | 386 | 1
| E | 0.0000 | 517 | 0
Northern rockfish | W | 0.0005 | 1,719 | 1
| C | 0.0000 | 4,181 | 0
Pelagic shelf rockfish | W | 0.0017 | 1,452 | 2
| C | 0.0000 | 3,270 | 0
| E | 0.0000 | 739 | 0
Thornyhead rockfish | W | 0.0047 | 513 | 2
| C | 0.0066 | 989 | 7
| E | 0.0045 | 707 | 3
Big skates | W | 0.0392 | 695 | 27
| C | 0.0159 | 2,250 | 36
| E | 0.0000 | 599 | 0
Longnose skates | W | 0.0392 | 65 | 3
| C | 0.0159 | 1,969 | 31
| E | 0.0000 | 861 | 0
Other skates | Gulfwide | 0.0176 | 1,617 | 28
Demersal shelf rockfish | SEO | 0,0000 | 410 | 0
Atka mackerel | Gulfwide | 0.0000 | 1,500 | 0
Other species | Gulfwide | 0.0176 | 4,500 | 79
¹ The Pacific cod A season for trawl gear does not open until January 20.
² The Pacific cod B season for trawl gear closes November 1.

Table 17- Proposed 2008 GOA Non-American Fisheries Act Crab Vessel Groundfish Harvest Sideboard Limits
(values are rounded to nearest metric ton)
Species | Area/season/component/gear | Ratio of 1996-2000 non-AFA crab vessel catch to 1996-2000 total harvest | Proposed 2008 TAC | Proposed 2008 non-AFA crab vessel sideboard limit
Pollock | A Season (W/C areas only) |  |  |
| January 20 - March 10 |  |  |
| Shumagin (610) | 0.0098 | 3,481 | 34
| Chirikof (620) | 0.0031 | 9,254 | 29
| Kodiak (630) | 0.0002 | 3,358 | 1
| B Season (W/C areas only) |  |  |
| March 10 - May 31 |  |  |
| Shumagin (610) | 0.0098 | 3,481 | 34
| Chirikof (620) | 0.0031 | 11,073 | 34
| Kodiak (630) | 0.0002 | 1,538 | 0
| C Season (W/C areas only) |  |  |
| August 25 - October 1 |  |  |
| Shumagin (610) | 0.0098 | 8,473 | 83
| Chirikof (620) | 0.0031 | 2,441 | 8
| Kodiak (630) | 0.0002 | 5,178 | 1
| D Season (W/C areas only) |  |  |
| October 1 - November 1 |  |  |
| Shumagin (610) | 0.0098 | 8,473 | 83
| Chirikof (620) | 0.0031 | 2,441 | 8
| Kodiak (630) | 0.0002 | 5,178 | 1
| Annual |  |  |
| WYK (640) | 0.0000 | 1,481 | 0
| SEO (650) | 0.0000 | 6,157 | 0
Pacific cod | A Season¹ |  |  |
| January 1 - June 10 |  |  |
| W inshore | 0.0902 | 6,334 | 571
| W offshore | 0.2046 | 704 | 144
| C inshore | 0.0383 | 11,019 | 422
| C offshore | 0.2074 | 992 | 206
| B Season² |  |  |
| September 1 - December 31 |  |  |
| W inshore | 0.0902 | 4,222 | 381
| W offshore | 0.2046 | 469 | 96
| C inshore | 0.0383 | 5,955 | 230
| C offshore | 0.2074 | 662 | 137
| Annual |  |  |
| E inshore | 0.0110 | 1,949 | 21
| E offshore | 0.0000 | 0 | 2
Flatfish | W | 0.0035 | 421 | 1
deep-water | C | 0.0000 | 5,147 | 0
| E | 0.0000 | 2,369 | 0
Rex sole | W | 0.0000 | 1,084 | 0
| C | 0.0000 | 7,340 | 0
| E | 0.0000 | 3,630 | 0
Flathead sole | W | 0.0002 | 2,000 | 0
| C | 0.0004 | 5,000 | 2
| E | 0.0000 | 2,148 | 0
Flathead shallow-water | W | 0.0059 | 4,500 | 27
| C | 0.0001 | 13,000 | 1
| E | 0.0000 | 2,472 | 0
Arrowtooth flounder | W | 0.0004 | 8,000 | 3
| C | 0.0001 | 30,000 | 3
| E | 0.0000 | 5,000 | 0
Sablefish | W trawl gear | 0.0000 | 443 | 0
| C trawl gear | 0.0000 | 1,056 | 0
| E trawl gear | 0.0000 | 240 | 0
Pacific ocean perch | W | 0.0000 | 4,341 | 0
| C | 0.0000 | 7,751 | 0
| E | 0.0000 | 2,808 | 0
Shortraker rockfish | W | 0.0013 | 153 | 0
| C | 0.0012 | 353 | 0
| E | 0.0009 | 337 | 0
Rougheye rockfish | W | 0.0067 | 124 | 1
| C | 0.0047 | 557 | 3
| E | 0.0008 | 219 | 0
Other rockfish | W | 0.0035 | 577 | 2
| C | 0.0033 | 386 | 1
| E | 0.0000 | 517 | 0
Northern rockfish | W | 0.0005 | 1,719 | 1
| C | 0.0000 | 4,181 | 0
Pelagic shelf rockfish | W | 0.0017 | 1,653 | 3
| C | 0.0000 | 3,571 | 0
| E | 0.0000 | 847 | 0
Thornyhead rockfish | W | 0.0047 | 513 | 2
| C | 0.0066 | 989 | 7
| E | 0.0045 | 707 | 3
Big skate | W | 0.0392 | 695 | 27
| C | 0.0159 | 2,250 | 36
| E | 0.0000 | 599 | 0
Longnose skates | W | 0.0392 | 65 | 3
| C | 0.0159 | 1,969 | 31
| E | 0.0000 | 861 | 0
Other skates | Gulfwide | 0.0176 | 1,617 | 28
Demersal shelf rockfish | SEO | 0,0000 | 410 | 0
Atka mackerel | Gulfwide | 0.0000 | 1,500 | 0
Other species | Gulfwide | 0.0176 | 4,500 | 79
¹ The Pacific cod A season for trawl gear does not open until January 20.
² The Pacific cod B season for trawl gear closes November 1.

Rockfish Program Groundfish Sideboard Limitations and Halibut Mortality Limitations

The Rockfish Program establishes sideboards to limit the ability of participants eligible for the Rockfish Program to harvest fish in fisheries other than the Central GOA rockfish fisheries. The Rockfish Program provides certain economic advantages to harvesters. Harvesters could use this economic advantage to increase their participation in other fisheries, adversely affecting the participants in other fisheries. These proposed sideboards limit the total amount of catch in other groundfish fisheries that could be taken by eligible harvesters and limit the amount of halibut mortality to historic levels. The sideboard measures are in effect only during the month of July. Traditionally, the Central GOA rockfish fisheries were open in July, and the sideboards are designed to restrict fishing during the historical season for the fishery, but allow eligible rockfish harvesters to participate in fisheries before or after the historical rockfish season. The two categories of sideboard limits are catch amount constraints and close specific directed fisheries and regions during July. The sideboard provisions are discussed in detail in the proposed rule (71 FR 33040, June 7, 2006) and final rule (71 FR 67210, November 20, 2006). Tables 18 and 19 list the proposed 2007 and 2008 harvest limits for rockfish in the WYK and the Western Regulatory Area. Table 20 lists the proposed 2007 and 2008 halibut mortality limits for the Western and Central Regulatory Areas and the WYK.

Table 18 - Proposed 2007 Rockfish Program Harvest Limits by Sector for West Yakutat District and Western GOA by the Catcher/Processor (C/P) and Catcher Vessel (CV) Sectors
(values are rounded to nearest metric ton)
Management Area | Fishery | C/P sector (% of TAC) | CV sector (% of TAC) | Proposed 2007 TAC | Proposed 2007 C/P limit | Proposed 2007 CV limit
West Yakutat District | Pelagic shelf rockfish | 72.4 | 1.7 | 302 | 219 | 5
| Pacific ocean perch | 76.0 | 2.9 | 1,135 | 863 | 33
Western GOA | Pelagic shelf rockfish | 63.3 | 0.0 | 1,452 | 919 | 0
| Pacific ocean perch | 61.1 | 0.0 | 4,282 | 2,616 | 0
| Northern rockfish | 78.9 | 0.0 | 1,719 | 1,356 | 0

Table 19 - Proposed 2008 Rockfish Program Harvest Limits by Sector for West Yakutat District and Western GOA by the Catcher/Processor (C/P) and Catcher Vessel (CV) Sectors
(values are rounded to nearest metric ton)
Management Area | Fishery | C/P sector (% of TAC) | CV sector (% of TAC) | Proposed 2008 TAC | Proposed 2008 C/P limit | Proposed 2008 CV limit
West Yakutat District | Pelagic shelf rockfish | 72.4 | 1.7 | 346 | 251 | 4
| Pacific ocean perch | 76.0 | 2.9 | 1,150 | 874 | 25
Western GOA | Pelagic shelf rockfish | 63.3 | 0.0 | 1,653 | 1,046 | 0
| Pacific ocean perch | 61.1 | 0.0 | 4,341 | 2,652 | 0
| Northern rockfish | 78.9 | 0.0 | 1,690 | 1,333 | 0

Table 20 - Proposed 2007 and 2008 Rockfish Program Halibut Mortality Limits for the Catcher/Processor and Catcher Vessel Sectors
(values are rounded to nearest metric ton)
Sector | Shallow-water complex halibut PSC sideboard ratio | Deep-water complex halibut PSC sideboard ratio | Annual halibut mortality limit (mt) | Annual shallow-water complex halibut PSC sideboard limit (mt) | Annual deep-water complex halibut PSC sideboard limit (mt)
Catcher/processor | 3.99 | 0.54 | 2,000 | 80 | 11
Catcher vessel | 1.08 | 6.32 | 2,000 | 22 | 126

Classification

NMFS has determined that the proposed specifications are consistent with the FMP and preliminarily determined that the proposed specifications are consistent with the Magnuson-Stevens Act and other applicable laws.

NMFS prepared a DEIS for this action; a notice of availability was published on September 8, 2006 (71 FR 53093). The public comment period closed on October 23, 2006. The DEIS analyzes the environmental consequences of the proposed action and its alternatives on resources in the action area. The DEIS found no significant environmental consequences from the proposed action or its alternatives, however, some impacts were unknown.

An initial regulatory flexibility analysis (IRFA) was prepared, as required by section 603 of the Regulatory Flexibility Act. The IRFA describes the economic impact this proposed rule, if adopted, would have on small entities. A description of the action, why it is being considered, and the legal basis for this action are contained at the beginning of this section in the preamble and in the SUMMARY section of the preamble. A summary of the analysis follows. A copy of this analysis is available from NMFS (see ADDRESSES).

The action under consideration is a harvest strategy to govern the harvest of groundfish in the GOA. The preferred alternative is the status quo harvest strategy in which TACs fall within the range of ABCs recommended by the Council's Groundfish Plan Teams and TACs recommended by the Council. This action is taken in accordance with the FMP prepared by the Council pursuant to the Magnuson-Stevens Act.

The entities directly regulated by this action are those that harvest groundfish in the EEZ of the GOA, and in parallel fisheries within State of Alaska waters. These include entities operating catcher vessels and catcher-processor vessels within the action area, and entities receiving direct allocations of groundfish. Catcher vessels and catcher processors were considered to be small entities if they had annual gross receipts, from all of their economic activities, and including the revenue of their affiliated operations, less than or equal to $4 million per year. Data from 2004 was used because it was the most recent available.

The directly regulated small entities include approximately 810 small catcher vessels and fewer than 20 small catcher/processors. Estimates of first wholesale gross revenues for the GOA were used as indices of the potential impacts of the alternative harvest strategies on small entities. Revenues were projected to decline from 2006 levels in 2007 and 2008 under the preferred alternative due to declines in ABCs for economically key groundfish species.

The preferred alternative (Alternative 2) was compared to four other alternatives. These included Alternative 1, which would set TACs to generate fishing rates equal to the maximum permissible ABC (if the full TAC were harvested), unless the sum of TACs would exceed the GOA OY, in which case harvests would be limited to the OY. Alternative 3 would set TACs to produce fishing rates equal to the most recent five-year average fishing rate. Alternative 4 would set TACs to equal the lower bound of the GOA OY range. Alternative 5 would set TACs equal to zero. Alternative 5 is the “no action” alternative.

Alternatives 3, 4, and 5 were all associated with smaller levels for important fishery TACs than the preferred alternative. Estimated total first wholesale gross revenues were used as an index of potential adverse impacts to small entities. As a consequence of the lower TAC levels, Alternatives 3, 4, and 5 all had smaller values of these first wholesale revenue indices than Alternative 2. Thus, Alternatives 3, 4, and 5 had greater adverse impacts on small entities. The projected levels for some Alternative 1 TACs were greater than those for Alternative 2. This led to higher gross revenue projections for Alternative 1. However, much of the revenue difference was due to projected flatfish TACs that were much larger for Alternative 1 than for Alternative 2. In recent years, halibut bycatch constraints in these fisheries have kept actual flatfish catches from reaching the Alternative 2 levels. Therefore, much of this revenue increase is probably an artifact of the model. Moreover, Alternative 2 TACs are constrained by the ABCs the Plan Teams and SSC are projected to recommend to the Council on the basis of a full consideration of biological issues. These ABCs can be less than maximum permissible ABCs. This is expected to be the case with GOA pollock. Thus higher TACs, under Alternative 1 may not be consistent with prudent biological management of the resource. For these reasons, Alternative 2 is the preferred alternative.

This action does not modify recordkeeping or reporting requirements, or duplicate, overlap, or conflict with any Federal rules.

This action is authorized under § 679.20 and is exempt from review under Executive Order 12866.

Adverse impacts on marine mammals resulting from fishing activities conducted under this rule are discussed in the DEIS (see ADDRESSES).

Authority: 16 U.S.C. 773 et seq.; 1540(f); 1801 et seq.; 1851 note; and 3631 et seq.

Dated: December 6, 2006.
Samuel D. Rauch III,
Deputy Assistant Administrator for Regulatory Programs, National Marine Fisheries Service.

[FR Doc. E6-21303 Filed 12-14-06; 8:45 am]

BILLING CODE 3510-22-S